DEPARTMENT OF COMMERCE

National Oceanic and Atmospheric Administration

50 CFR Part 648

[Docket No. 140902739-5224-02]

RIN 0648-XF672

Fisheries of the Northeastern United States; Atlantic Mackerel, Squid, and Butterfish Fishery; 2017 Illex Squid Quota Harvested

AGENCY: National Marine Fisheries Service (NMFS), National Oceanic and Atmospheric Administration (NOAA), Commerce.

ACTION: Temporary rule; reduction of possession limit.

SUMMARY: NMFS announces a 10,000 lb (4.535 kg) trip limit that may not be landed more than once per day for the Illex squid fishery beginning September 1, 2017. This prohibition is required by regulation because NMFS projects that 95 percent of the 2017 annual catch limit will have been caught by the effective date. This action is intended to prevent over harvest of Illex squid for the fishing year.

DATES: Effective 0001 hr local time, September 1, 2017, through December 31, 2017.

FOR FURTHER INFORMATION CONTACT: Alyson Pitts, Fishery Management Specialist, (978) 281-9352.

SUPPLEMENTARY INFORMATION: Regulations governing the Illex squid fishery are at 50 CFR part 648. The regulations require specifications for maximum sustainable yield, initial optimum yield, allowable biological catch (ABC), domestic annual harvest (DAH), domestic annual processing, joint venture processing, and total allowable levels of foreign fishing for the species managed under the Atlantic Mackerel, Squid, and Butterfish Fishery Management Plan (FMP). The procedures for setting the annual initial specifications are described in § 648.22.

The regulations at § 648.24(a)(2) require that when the NMFS Administrator of the Greater Atlantic Region (Regional Administrator) projects Illex squid catch will reach 95 percent of the DAH quota designated in the FMP, NMFS must prohibit Federal Illex squid vessel permit holders from fishing for, catching, possessing, transferring, or landing more than 10,000 lb (4,535 kg) of Illex squid per trip and landing no squid more than 10,000 lb (4,535 kg) once per calendar day for the remainder of the prohibition period. This type of prohibition effectively closes the directed Illex squid fishery. The Regional Administrator monitors the Illex squid fishery catch annually based on dealer reports, state data, and other available information. When 95 percent of the DAH has been reached, NMFS must provide at least 72 hours of notice to the public that this determination has been made. NMFS must also publish the date that the catch is projected to reach 95 percent of the quota, and the date when prohibitions on catch and landings for the remainder of the fishing year become effective.

The Regional Administrator has determined, based on dealer reports and other available information, that the Illex squid fleet will catch 95 percent of the total Illex squid DAH quota for the 2017 season through December 31, 2017, by September 1, 2017. Therefore, effective 0001 hr local time, September 1, 2017, federally permitted vessels may not fish for, catch, possess, transfer, or land more than 10,000 lb (4,535 kg) of Illex squid per trip and may not land more than 10,000 lb (4,535 kg) once per calendar day. In addition, vessels that have entered port before 0001 hr on September 1, 2017, may offload and sell more than 10,000 lb (4,535 kg) of Illex squid from that trip. Also, federally permitted dealers may not receive Illex squid from federally permitted Illex squid vessels that harvest more than 10,000 lb (4,535 kg) of Illex squid through 2400 hr local time, December 31, 2017, unless it is from a trip landed by a vessel that entered port before 0001 hr on September 1, 2017.

Classification

This action is required by 50 CFR part 648 and is exempt from review under Executive Order 12866.

NMFS finds good cause pursuant to 5 U.S.C. 553(b)(B) to waive prior notice and the opportunity for public comment because it would be contrary to the public interest and impracticable. The Illex squid fishery opened for the 2017 fishing year on January 1, 2017. Data and other information indicating the Illex squid fleet will have landed at least 95 percent of the 2017 DAH quota have only recently become available. Landings data is updated on a weekly basis, and NMFS monitors catch data on a daily basis as catch increases toward the limit. Further, high-volume catch and landings in this fishery increases total catch relative to the quota quickly. The regulations at § 648.24(a)(2) require such action to ensure that Illex squid vessels do not exceed the 2017 DAH quota. If implementation of this action is delayed to solicit prior public comment, the quota for the 2017 fishing year may be exceeded, thereby undermining the conservation objectives of the FMP. Also, the public had prior notice and full opportunity to comment on this process when these provisions were put in place. Based on these considerations, NMFS further finds, pursuant to 5 U.S.C 553(d)(3), good cause to waive the 30-day delayed effectiveness period for the reasons stated above.

Authority: 16 U.S.C. 1801 et seq.

Dated: September 6, 2017.
Emily H. Menashes,
Acting Director, Office of Sustainable Fisheries, National Marine Fisheries Service.

[FR Doc. 2017-19208 Filed 9-6-17; 4:15 pm]

BILLING CODE 3510-22-P